DEPARTMENT OF THE INTERIOR

National Park Service

[NPS-IMR-GUMO-11509; PX.P0166755C.00.1]

General Management Plan, Final Environmental Impact Statement, Guadalupe Mountains National Park, Texas

AGENCY: National Park Service, Interior.

ACTION: Notice of availability.

SUMMARY: Pursuant to the National Environmental Policy Act of 1969, 42 U.S.C. 4332(2)(C), the National Park Service (NPS) announces the availability of a Final Environmental Impact Statement for the General Management Plan, Guadalupe Mountains National Park, Texas.

DATES: The NPS will execute a Record of Decision no sooner than 30 days following publication in the Federal Register by the Environmental Protection Agency of the Notice of Availability of the Final Environmental Impact Statement.

ADDRESSES: Information will be available for public inspection online at http://parkplanning.nps.gov/gumo, in the office of the Superintendent, Dennis A. Vásquez, at the Park Headquarters/Pine Springs Visitor Center: 400 Pine Canyon Drive, Salt Flat, TX 79847-4755; telephone (915) 828-3251 ext. 2100.

FOR FURTHER INFORMATION CONTACT: Dennis A. Vásquez, Superintendent, Guadalupe Mountains National Park, HC 60, Box 400, Salt Flat, TX 79847-9400; email address GUMO_Superintendent@nps.gov; telephone (915) 828-3251 ext. 2100.

SUPPLEMENTARY INFORMATION: The document describes four management alternatives including a no-action alternative and the NPS preferred alternative. The anticipated environmental impacts of those alternatives are analyzed. The final document also includes responses to substantive comments from the public, from traditionally associated American Indian tribes, and from government agencies.

The no-action alternative would extend existing conditions and management trends into the future. This alternative serves as a basis of comparison for evaluating the action alternatives. The preferred alternative would emphasize wilderness values and the restoration of ecosystem processes while expanding some opportunities for visitors to enjoy easier access to park settings than currently exist. Enhanced interpretation would include expansion of visitor facilities and services in the Pine Springs visitor center. New administration facilities and a campground would be constructed, and improved facilities and activities would be provided at other sites throughout the park. Alternative B would promote wilderness values and restoration of natural ecosystem processes. Campsites and horse corrals would be closed and their sites revegetated. The limited amount of new construction would primarily support resource protection. Improvements in interpretation would be less extensive than in the preferred alternative. Alternative C would expand opportunities for visitors to enjoy a wider range of park settings. New park access and facility improvements would provide activities, interpretation, and visitor gateways to the interior of the park from the south and west, recreation opportunities for more diverse visitor groups, and improved administrative facilities.

Dated: October 30, 2012.
John Wessels,
Regional Director, Intermountain Region, National Park Service.

Editorial Note: This document was received at the Office of the Federal Register on June 11, 2013.

[FR Doc. 2013-14234 Filed 6-24-13; 8:45 am]

BILLING CODE 4312-CB-P